DEPARTMENT OF THE INTERIOR

Geological Survey

[GX22LQ00UN80423; OMB Control Number 1028-NEW]

Agency Information Collection Activities; Assessment of Flooding Impacts and Climate Inequities

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before October 19, 2023.

ADDRESSES: Written comments and recommendations for the proposed information collection should be sent within 30 days of publication of this notice to www.reginfo.gov/public/do/PRAMain. Find this information collection by selecting “Currently under Review—Open for Public Comments” or by using the search function. Please provide a copy of your comments on this information collection request (ICR) by mail to U.S. Geological Survey, Information Collections Officer, 12201 Sunrise Valley Drive MS 159, Reston, VA 20192; or by email to gs-info_collections@usgs.gov. Please reference OMB Control Number 1028-NEW Assessment of Flooding Impacts and Climate Inequities in the subject line of your comments.

FOR FURTHER INFORMATION CONTACT: To request additional information about this ICR, contact John Warner by email at jcwarner@usgs.gov, or by telephone at 508-457-2237. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), all information collections require approval. We may not conduct or sponsor, nor are you required to respond to a collection of information unless it displays a currently valid OMB control number.

A Federal Register notice with a 60-day public comment period soliciting comments on this collection of information was published on May 8, 2023, 88 FR 29686. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: We will investigate social vulnerability to coastal storm flooding in urban neighborhoods to assess inequities in the burden of flood risk. Recent flood disasters arising from severe coastal storms and hurricanes (i.e., Hurricane Ida in 2021) have demonstrated the critical importance of incorporating rainfall into assessments of coastal flood risk. Climate change is leading to increased rainfall intensity and more frequent coastal flooding, which is increasing risk for residents of low-lying areas such as basement apartments, who are often low-income or from minority racial groups. We will collect data on vulnerability to flooding from rainfall and coastal storms through interviews, focus group discussions (FGD), and household/small business surveys. Participants will be drawn from residents and businesses in the Jamaica Bay watershed in and around Brooklyn, New York. Participants are being identified through snowball sampling and contact with community leaders. Participants will share their experiences, concerns, and responses to flooding events and risks, through individual interviews or focus groups. Interviews will be recorded, transcribed, and analyzed using qualitative data analysis software such as Atlas.ti.

Title of Collection: Assessment of Flooding Impacts and Climate Inequities.

OMB Control Number: 1028-NEW.

Form Number: None.

Type of Review: New.

Respondents/Affected Public: Residents and businesses.

Total Estimated Number of Annual Respondents: 475: 20 resident interviews or FGD participants, 5 small business interviews; 300 household surveys, 150 small business surveys.

Total Estimated Number of Annual Responses: 475: 20 resident interviews or FGD participants, 5 small business interviews; 300 household surveys, 150 small business surveys.

Estimated Completion Time per Response: 2 hours for resident interviews or FGDs, 1 hour or less for small business interviews, 0.5 hour for household surveys and 0.5 hours for small business surveys.

Total Estimated Number of Annual Burden Hours: 270 hours.

20 resident interviews/FGD × 2 hrs = 40 hrs.

5 small business interviews × 1hr = 5 hrs.

300 household surveys × 0.5 hr = 150 hrs.

150 small business surveys × 0.5 hr = 75 hrs.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995.

Jane Denny,
Acting Center Director, USGS Woods Hole Coastal & Marine Science Center.

[FR Doc. 2023-20265 Filed 9-18-23; 8:45 am]

BILLING CODE 4338-11-P